DEPARTMENT OF DEFENSE

Department of the Army

Armed Forces Epidemiological Board; Meeting

AGENCY: Department of the Army; DoD.

ACTION: Notice of open meeting.

SUMMARY: In accordance with section 10(a)(2) of Public Law 92-463, The Federal Advisory Committee Act, announcement is made of the following meeting:

Name of Committee: Armed Forces Epidemiological Board (AFEB).

Dates: February 17 and 18, 2004.

Times: 7:30 a.m.-4:30 p.m. (February 17, 2004). 1:45 p.m.-4:30 p.m. (February 18, 2004).

Location: Four Points Sheraton (http://www.sheraton4pts.com/), located at 1325 Miracle Strip Parkway, Highway 98 East Fort Walton Beach, FL 32548.

Agenda: The purpose of the meeting is to address pending and new Board issues, provide briefings for Board members on topics related to ongoing and new Board issues, conduct subcommittee meetings, and conduct an executive working session.

FOR FURTHER INFORMATION CONTACT: Colonel James R. Riddle, Executive Secretary, Armed Forces Epidemiological Board, Skyline Six, 5109 Leesburg Pike, Room 682, Falls Church, VA 22041-3258, (703) 681-8014/5.

SUPPLEMENTARY INFORMATION: Open sessions of the meeting will be limited by space accommodations. The meeting will be open to the public in accordance with Section 552b(c) of Title 5, U.S.C., specifically subparagraph (1) thereof and Title 5, U.S.C., appendix 1, subsection 10(d). Any interested person may attend, appear before or file statements with the committee at the time and in the manner permitted by the committee.

Luz D. Ortiz,
Army Federal Register Liaison Officer.

[FR Doc. 04-436 Filed 1-8-04; 8:45 am]

BILLING CODE 3710-08-M